DEPARTMENT OF COMMERCE

15 CFR Part 9

[Docket ID 260107-0005]

RIN 0605-AA72

Removing Obsolete Regulations Establishing Procedures for a Voluntary Labeling Program for Household Appliances and Equipment To Effect Energy Conservation

AGENCY: Office of the Secretary, Department of Commerce.

ACTION: Final rule.

SUMMARY: By this rule, the Department of Commerce is removing its regulations establishing a voluntary labeling program for household appliances and equipment designed to promote energy conservation. This action is necessary because the voluntary program is obsolete and has been superseded by the comprehensive Appliance Labeling Rule, administered by the Department of Energy and the Federal Trade Commission, which mandates manufacturers attach EnergyGuide labels to their products to help consumers compare different products and make informed purchasing decisions. The intended effect of this removal is to streamline the regulatory code, eliminate a duplicative and unnecessary program, and reduce the potential for public confusion.

DATES: The rule is effective January 15, 2026.

FOR FURTHER INFORMATION CONTACT: Daniel Sweeney, Senior Counsel, Office of the General Counsel, at (202) 482-1395.

SUPPLEMENTARY INFORMATION:

I. Background

The Department of Commerce (the Department) is amending the regulations at 15 CFR part 9, “Procedures for a Voluntary Labeling Program for Household Appliances and Equipment to Effect Energy Conservation,” by removing part 9 in its entirety. These regulations establish the procedures for a voluntary program designed to provide consumers with energy consumption and efficiency information for household appliances; however, that program has been superseded by the comprehensive, mandatory EnergyGuide labeling program administered by the Department of Energy and the Federal Trade Commission.

Regulatory History

The Department of Commerce established the voluntary labeling program in a final rule published in the Federal Register on October 26, 1973 (38 FR 29574). The program was created in response to President Richard Nixon's 1973 Energy Message to Congress, which directed the Department, in cooperation with the Council on Environmental Quality and the Environmental Protection Agency, to develop a voluntary labeling system for energy-consuming home appliances. The stated goal of the program was to encourage manufacturers to provide consumers with clear, uniform, and easily understandable information about the energy consumption and efficiency of household appliances at the point of sale. This information would enable consumers to compare products and select those that could achieve energy savings. The primary statutory authorities cited for the establishment of this part were 15 U.S.C. 272, Reorganization Plan No. 3 of 1946, and the President's Message Concerning Energy Resources of April 18, 1973.

The Department later amended the regulations in a final rule published on August 13, 1975 (40 FR 33966). This amendment made two primary changes: it revised the definition of manufacturer to clarify the inclusion of private brand labelers, and it expanded the scope of the program by adding television receivers to the list of covered equipment.

Description of the Subject Regulations

The regulations at 15 CFR part 9 created a comprehensive framework for the voluntary labeling program. Section 9.0 states the purpose of the part is to establish the procedures for this program. Section 9.1 outlines the program's goal, which is to provide consumers with energy consumption and efficiency information for household appliances to help them make informed purchasing decisions. Section 9.2 provides definitions for key terms used throughout the part, such as manufacturer, energy consumption, and energy efficiency; the definition for manufacturer was revised in 1975 to explicitly include private brand labelers. Section 9.3 specifies the initial appliances and equipment included in the program, such as air conditioners, refrigerators, and water heaters, and was amended in 1975 to also include television receivers.

The regulations also established the operational mechanics of the program. Section 9.4 details the process for the Secretary of Commerce to develop “Voluntary Energy Conservation Specifications” for different classes of appliances. This process included publishing proposed specifications for public comment and ensuring each specification contained test methods, a prototype label, and conditions for manufacturer participation. Section 9.5 outlines the requirements for manufacturers who chose to participate, including notifying the Department, conducting tests to generate the data on the label, and displaying the label on their products. Section 9.6 specifies the conditions under which a manufacturer's participation could be terminated. Section 9.7 required the Department to develop and register a “Department of Commerce Energy Conservation Mark” for use on the labels.

Finally, the part includes provisions for program maintenance and outreach. Section 9.8 provides a procedure for amending or revising the specifications. Section 9.9 directs the Department to conduct a consumer education program to explain the significance of the labels. Section 9.10 requires the Department to coordinate with State and local governments to promote uniformity in appliance labeling programs. Section 9.11 mandates that the Secretary prepare an annual report on the program's activities.

II. Discussion

The Department of Commerce is removing 15 CFR part 9 in its entirety. These regulations, established in 1973, created a voluntary labeling program for household appliances to promote energy conservation. After a thorough review, the Department has determined that this program is obsolete and has been entirely superseded by subsequent, more comprehensive federal energy conservation and labeling programs.

Elimination of a Duplicative and Unnecessary Program

The primary policy basis for removing 15 CFR part 9 is that its purpose and function have been rendered unnecessary and duplicative by the mandatory energy labeling program established under the Energy Policy and Conservation Act of 1975 (EPCA). That program, which is jointly administered by the U.S. Department of Energy (DOE) and the Federal Trade Commission (FTC), created the familiar yellow “EnergyGuide” label found on major home appliances today. The EnergyGuide program is a comprehensive, mandatory, and nationally recognized system that effectively achieves the original goals of the Department's voluntary program from 1973. It provides consumers with clear, standardized information on appliance energy consumption and efficiency, enabling them to make informed purchasing decisions.

Given the success and ubiquity of the mandatory DOE/FTC program, the Department's older, voluntary program serves no remaining practical purpose. Its continued existence in the Code of Federal Regulations is redundant and creates the potential for public confusion. Removing these obsolete regulations is a common-sense administrative action that streamlines the regulatory code and eliminates a program that no longer provides a benefit to the public, regulated entities, or the government. The removal of the entire part, from the purpose and definitions in §§ 9.0 through 9.2 to the operational procedures in §§ 9.3 through 9.8 and the outreach and reporting requirements in §§ 9.9 through 9.11, is necessary as all of these provisions are integral components of a program that is no longer active or needed.

The Department has concluded that the establishment of this specific voluntary labeling program is not mandated by statute. The program was originally created under the Department's general authorities, including those found in 15 U.S.C. 272, and in response to a 1973 Presidential message. However, the cited statutory authorities grant general functions related to standards and technology; they do not contain a specific congressional command to create or maintain this particular appliance labeling program. Because the underlying program is not statutorily required and has been fully superseded by a congressionally mandated program administered by other federal agencies, the Department believes that its complete removal is the most appropriate course of action.

III. Classification

A. Administrative Procedure Act

Pursuant to 5 U.S.C. 553(b)(4)(B), the Department finds good cause to waive the prior notice and opportunity for public participation requirements of the Administrative Procedure Act for this final rule. The Department has determined that prior notice and opportunity for public participation is unnecessary because, as discussed above, the voluntary program being eliminated by this action has already been superseded and rendered obsolete by the comprehensive Appliance Labeling Rule, administered by the Department of Energy and the Federal Trade Commission, and the EnergyGuide program. Furthermore, because the Department firmly expects that it would not receive any comments—let alone any significant comments—on this rulemaking, and because eliminating clutter from the Code of Federal Regulations would provide some immediate benefits to the public, the Department finds that proceeding with notice and comment for this rulemaking would be contrary to the public interest

For these reasons, there is also good cause under 5 U.S.C. 553(d) to waive the 30-day delay in effectiveness.

B. Executive Orders 12866 and 14192

This rule has been determined to be not significant for purposes of E.O. 12866. This rule is an E.O. 14192 deregulatory action.

C. Regulatory Flexibility Act

Because prior notice and an opportunity for public participation are not required pursuant to 5 U.S.C. 553, or any other law, the analytical requirements of the Regulatory Flexibility Act (5 U.S.C. 601 et seq.) are not applicable. Accordingly, no regulatory flexibility analysis is required, and none has been prepared.

D. National Environmental Policy Act

For the purposes of compliance with the National Environmental Policy Act (NEPA), the Department has concluded that this rulemaking action falls within the National Telecommunications and Information Administration (NTIA) categorical exclusion (CE) A-2, “Preparation of policy directives, rules, regulations, and guidelines of an administrative, financial, legal, technical, or procedural nature, or for which the environmental effects are too broad, speculative or conjectural to lend themselves to meaningful analysis and will be subject later to the NEPA process, either collectively or on a case-by-case basis.” The Department has consulted with NTIA pursuant to 42 U.S.C. 4336 and agreed that the Department will adopt this CE for the purposes of this rulemaking.

E. Paperwork Reduction Act

These regulations do not contain any information collection requirements under the Paperwork Reduction Act of 1995, 44 U.S.C. 3501 et seq.

List of Subjects for 15 CFR Part 9

Administrative practice and procedure, Consumer protection, Energy conservation, Household appliances, Labeling, Reporting and recordkeeping requirements.

Dated: January 13, 2026.
Paul Dabbar,
Deputy Secretary of Commerce.

PART 9—[REMOVED AND RESERVED]

Accordingly, for the reasons set forth above part 9 of title 15 of the Code of Federal Regulations and under the authority of 15 U.S.C. 272 and 5 U.S.C. 301, the Department of Commerce removes 15 CFR part 9.

[FR Doc. 2026-00690 Filed 1-14-26; 8:45 am]

BILLING CODE 3510-13-P